DEPARTMENT OF ENERGY

Federal Energy Regulatory Commission

[Project No. 4202-025]

KEI (Maine) Power Management (II) LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 4202-025.

c. Date Filed: September 28, 2021.

d. Applicant: KEI (Maine) Power Management (II), LLC (KEI Power).

e. Name of Project: Lowell Tannery Project (project).

f. Location: On the Passadumkeag River in Penobscot County, Maine. The project does not occupy any federal land.

g. Filed Pursuant to: Federal Power Act 16 U.S.C. 791(a)-825(r).

h. Applicant Contact: Mr. Lewis C. Loon, KEI (Maine) Power Management (II), LLC c/o KEI (USA) Power Management Inc., 423 Brunswick Avenue, Gardiner, ME 04345; Phone at (207) 203-3025, or email at Lewis.Loon@kruger.com.

i. FERC Contact: Arash Barsari at (202) 502-6207, or arash.jalalibarsari@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: November 27, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Lowell Tannery Project (P-4202-025).

m. The application is not ready for environmental analysis at this time.

n. Project Description: The existing Lowell Tannery Project consists of: (1) A 230-foot-long, 21.5-foot-high concrete gravity dam that includes the following sections: (a) A left abutment section; (b) a 30-foot-long primary spillway with 42-inch-high flashboards and a crest elevation of 187.5 feet mean sea level (msl) at the top of the flashboards; (c) a 30.2-foot-long section with a seven-foot-wide log sluice and a ten-foot-wide tainter gate; (d) an 89-foot-long auxiliary spillway with 42-inch-high flashboards and a crest elevation of 187.5 feet msl at the top of the flashboards; (e) a 22.2-foot-long intake structure with two 15.5-foot-wide, 15.8-foot-high, angled trashracks with 1.5-inch clear bar spacing; and (f) a right abutment section; (2) an impoundment with a surface area of approximately 341 acres at an elevation of 187.5 feet msl; (3) a 69.4-foot-long, 26.7-foot-wide concrete powerhouse containing a 1,000-kilowatt vertical Kaplan turbine-generator unit; (4) a tailrace channel that discharges into the Passadumkeag River; (5) a 2.3/12.5-kilovolt (kV) step-up transformer and a 200-foot-long, 12.5-kV transmission line that connects the generator to the local utility distribution system; and (6) appurtenant facilities.

Article 19 of the current license requires the project to be operated in run-of-river mode. The average annual generation of the project was approximately 4,144 megawatt-hours from 2016 through 2020. The project creates an approximately 70-foot-long bypassed reach of the Passadumkeag River.

Downstream fish passage is provided by a bypass facility located adjacent to the left side of the intake structure and powerhouse, and consists of a 3.7-foot-wide log sluice, a 5.1-foot-wide, 5.8-foot-long concrete fish collection box, and a 69.7-foot-long, 18-inch-diameter fiberglass fish passage pipe that discharges into a plunge pool next to the tailrace. Upstream fish passage is provided by a 3-foot-wide Denil fishway located adjacent to the right side of the intake structure and powerhouse.

KEI Power proposes to: (1) Continue to operate the project in a run-of-river mode; (2) install upstream and downstream eel passage facilities; (3) install seasonal trashrack overlays with 0.875 inch diameter holes; (4) modify the discharge location of the existing downstream fish passage pipe to discharge adjacent to the existing upstream fish passage entrance; and (5) develop a fishway operation and management plan.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-4202). For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural Schedule: The application will be processed according to the following preliminary schedule. Revisions to the schedule will be made as appropriate.

Issue Deficiency Letter (if necessary)—November 2021

Request Additional Information—November 2021

Issue Scoping Document 1 for comments—February 2022

Request Additional Information (if necessary)—March 2022

Issue Acceptance Letter—March 2022

Issue Scoping Document 2—April 2022

Issue Notice of Ready for Environmental Analysis—April 2022

q. Final amendments to the application must be filed with the Commission no later than 30 days from the issuance date of the notice of ready for environmental analysis.

Dated: October 8, 2021.
Kimberly D. Bose,
Secretary.

[FR Doc. 2021-22515 Filed 10-14-21; 8:45 am]

BILLING CODE 6717-01-P